DEPARTMENT OF COMMERCE

National Oceanic and Atmospheric Administration

[I.D. 010506A]

Marine Mammals; File No. 984-1814

AGENCY: National Marine Fisheries Service (NMFS), National Oceanic and Atmospheric Administration (NOAA), Commerce.

ACTION: Notice; receipt of application.

SUMMARY: Notice is hereby given that the following individual has applied in due form for a permit to conduct research on marine mammals: Dr. Terrie Williams, Department of Ecology and Evolutionary Biology, Center for Ocean Health - Long Marine Laboratory, University of California, 100 Shaffer Road, Santa Cruz, CA, 95060.

DATES: Written, telefaxed, or e-mail comments must be received on or before February 16, 2006.

ADDRESSES: The application and related documents are available for review upon written request or by appointment in the following offices:

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on the request would be appropriate.

Comments may also be submitted by facsimile to (301)427-2521, provided the facsimile is confirmed by hard copy submitted by mail and postmarked no later than the closing date of the comment period.

Comments may also be submitted by e-mail to NMFS.Pr1Comments@noaa.gov. Include the appropriate document identifier in the subject line of the e-mail comment: File No. 984-1814.

FOR FURTHER INFORMATION CONTACT: Kate Swails or Tammy Adams, (301)713-2289.

SUPPLEMENTARY INFORMATION: The subject permit is requested under the authority of the Marine Mammal Protection Act of 1972, as amended (MMPA; 16 U.S.C. 1361 et seq.) and the Regulations Governing the Taking and Importing of Marine Mammals (50 CFR part 216).

The applicant requests a five-year permit to investigate the behavioral and energetic adaptations that enable Weddell seals (Leptonychotes weddellii) to forage in the Antarctic fast-ice environment, particularly in the dark. The applicant proposes to capture up to 20 adults and disturb up to 40 adults annually. The animals would have a data logger/video system attached, muscle biopsies and blood samples collected, and blubber thickness measured. Study results are expected to increase understanding of the foraging behavior of this marine mammal. The animals would be recaptured up to three times to remove or tend to the instruments. The applicant also requests authorization for the research-related mortality of up to two seals per year.

Concurrent with the publication of this notice in the Federal Register, NMFS is forwarding copies of these applications to the Marine Mammal Commission and its Committee of Scientific Advisors.

Dated: January 11, 2006.
Stephen L. Leathery,
Chief, Permits, Conservation and Education Division, Office of Protected Resources, National Marine Fisheries Service.

[FR Doc. E6-422 Filed 1-13-06; 8:45 am]

BILLING CODE 3510-22-S